DEPARTMENT OF THE INTERIOR

National Park Service

National Register of Historic Places; Notification of Pending Nominations and Related Actions

Nominations for the following properties being considered for listing or related actions in the National Register were received by the National Park Service before October 10, 2009. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service,1201 Eye St., NW., 8th floor, Washington DC 20005; or by fax, 202-371-6447. Written or faxed comments should be submitted by November 9, 2009.

J. Paul Loether,
Chief, National Register of Historic Places/National Historic Landmarks Program.

FLORIDA

Miami-Dade County

North Shore Historic District (North Beach Community (1919-1963), MPS), Roughly by 87th St., Collins Ave., 73rd., and Hawthorne Ave., Miami Beach, 09000926

Nassau County

Nassau County Jail, 233 S. 3rd. St., Fernandina Beach, 09000927

HAWAII

Honolulu County

East West Center Complex, 1601 East-West Rd., Honolulu, 09000928

Kauai County

Mahamoku, 5344 Weke Rd., Hanalei, 09000929

IOWA

Linn County

Marion Commercial Historic District (Iowa's Main Street Commercial Architecture MPS), 560-748 10th., 958-1298 7th Ave., 760-96 11th St., 766-76 13th St., 1108 8th Ave., and 969 6th Ave., Marion, 09000930

LOUISIANA

Ouachita Parish

Bosco Plantation House, 279 Pipes Ln., Monroe, 09000931

MARYLAND

Somerset County

Cullen Homestead Historic District, 4533, 27049, and 27067 Lawson Barnes Rd., Crisfield, 09000932

Glebe House, 10950 Market La., Princess Anne, 09000933

MASSACHUSETTS

Barnstable County

Sears, Jacob, Memorial Library, 23 Center St., Dennis, 09000934

Essex County

Asbury Grove Historic District, Around Asbury St., Hamilton, 09000935

Middlesex County

Middlesex Canal Historic and Archaeological District, Address Restricted, Boston, 09000936

Suffolk County

Middlesex Canal Historic and Archaeological District, Address Restricted, Boston, 09000936

MISSOURI

St. Louis Independent City

Pevely Dairy Company Plant, 1001 S. Grand, 3626 Chouteau, 1101 Motard, St. Louis, 09000937

NEBRASKA

Douglas County

Anderson Building, The, (Apartments, Flats and Tenements in Omaha, Nebraska from 1880-1962), 701 S. 24th St., 2243 Jones, Omaha, 09000938

NEW JERSEY

Cape May County

Flanders, Hotel, The, 719 E. 11th St., Ocean City, 09000939

Somerset County

Olcott Avenue Histrict District, Portions of Olcott, Childsworth, and Highview Avenues, and Church St., Bernardsville Borough, 09000940

NEW YORK

Broome County

Emmanuel Church of the Evangelical Association of Binghamton, 80 Front St., Binghamton, 09000941

Queens County

1964-1965 New York World's Fair New York State Pavilion, Flushing Meadows-Corona Park, Flushing, 09000942

OREGON

Multnomah County

Keller, Edward H. and Bertha R., House, 3028 NE Alameda St., Portland, 09000943

SOUTH DAKOTA

Gregory County

St. Augustine Church, SE Corner of 6th St. and Main St., Dallas, 09000944

St. John's Catholic Church, Section 31 R96W 73N Dickens Township, Dallas, 09000945

Lincoln County

Byrnes House, 525 N. Broadway St., Canton, 09000946

Tripp County

Tripp County Veteran's Memorial, 200 E. Third St., Winner, 09000947

TENNESSEE

Conway County

Briar Thicket Rd./Knob Creek Rd. over the Nolichucky River, Briar Thicket, 09000948

Greene County

Conway Bridge, Briar Thicket Rd./Knob Creek Rd. over the Nolichucky River, Briar Thicket, 09000948

Hamilton County

Brainerd Observatory, 10 N. Tuxedo Ave., Chattanooga, 09000949

Johnson County

Vaught, Dr. Wiley Wagner, Office, W.W. Vaught Ln., S. of Dug Hill Rd., Mountain City, 09000950

Smith County

Hull, Cordell, Bridge, Cordell Hull Bridge St. over the Cumberland River, Carthage, 09000951

WISCONSIN

Door County

GREEN BAY shipwreck (sloop) (Great Lakes Shipwreck Sites of Wisconsin MPS) Address Restricted, Sevastopol, 09000952

Request for REMOVAL has been made for the following resource:

SOUTH DAKOTA

Moody County

Ward Hall, Main St., Ward, 01001223

[FR Doc. E9-25561 Filed 10-22-09; 8:45 am]

BILLING CODE P